DEPARTMENT OF COMMERCE

Foreign-Trade Zones Board

[B-86-2013]

Authorization of Production Activity; Foreign-Trade Subzone 38F; Benteler Automotive Corporation (Automotive Suspension and Body Components); Duncan, South Carolina

On August 28, 2013, the South Carolina State Ports Authority, grantee of FTZ 38, submitted a notification of proposed production activity to the Foreign-Trade Zones (FTZ) Board on behalf of Benteler Automotive Corporation, operator of Subzone 38F, in Duncan, South Carolina.

The notification was processed in accordance with the regulations of the FTZ Board (15 CFR part 400), including notice in the Federal Register inviting public comment (78 FR 58518-58519, 9-24-2013). The FTZ Board has determined that no further review of the activity is warranted at this time. The production activity described in the notification is authorized, subject to the FTZ Act and the Board's regulations, including Section 400.14.

Dated: January 13, 2014.
Andrew McGilvray,
Executive Secretary.

[FR Doc. 2014-00917 Filed 1-16-14; 8:45 am]

BILLING CODE 3510-DS-P